ENVIRONMENTAL PROTECTION AGENCY

[OPP-50895; FRL-6826-1]

Issuance of Experimental Use Permits

AGENCY: Environmental Protection Agency (EPA).

ACTION: Notice.

SUMMARY: EPA has granted experimental use permits (EUPs) to the following pesticide applicants. An EUP permits use of a pesticide for experimental or research purposes only in accordance with the limitations in the permit.

FOR FURTHER INFORMATION CONTACT: By mail: Registration Division (7505C), Office of Pesticide Programs, Environmental Protection Agency, 1200 Pennsylvania Ave., NW., Washington, DC 20460.

In person or by telephone: Contact the designated person at the following address at the office location, telephone number, or e-mail address cited in each EUP: 1921 Jefferson Davis Hwy., Arlington, VA.

SUPPLEMENTARY INFORMATION:

I. General Information

A. Does this Action Apply to Me?

This action is directed to the public in general. Although this action may be of particular interest to those persons who conduct or sponsor research on pesticides, the Agency has not attempted to describe all the specific entities that may be affected by this action. If you have any questions regarding the information in this action, consult the designated contact person listed for the individual EUP.

B. How Can I Get Additional Information, Including Copies of this Document and Other Related Documents?

You may obtain electronic copies of this document from the EPA Internet Home Page at http://www.epa.gov/. On the Home Page select “Laws and Regulations,” “Regulations and Proposed Rules,” and then look up the entry for this document under the “Federal Register—Environmental Documents.” You can also go directly to the Federal Register listings at http://www.epa.gov/fedrgstr/.

II. EUPs

EPA has issued the following EUPs:

053263-EUP-1. Amendment. Cognis Corporation, 4900 Este Avenue, Cincinnati, OH 45232-1419. The EUP amendment for poly(oxy-1,2,-ethanediyl), alpha-isoctadecyl-omega-hydroxy for control of immature midges and mosquitoes was published in the Federal Register of October 31, 2001 (66 FR 54995) (FRL-6804-8). The original issuance allowed 1,700 pounds of the insecticide poly(oxy-1,2,-ethanediyl), alpha-isoctadecyl-omega-hydroxy to be used to treat and evaulate 67 acres of mosquitoes and midges habitats in the States of California, Florida, and South Carolina. This amendment will allow for additional use sites, bringing the count to 135 acres. The program is authorized only in the States of California, Florida, and South Carolina. This EUP is effective from October 31, 2001 to October 31, 2002. (Dani Daniel; Rm. 211, Crystal Mall #2; telephone number: (703) 305-5409; e-mail address: daniel.dani@epa.gov).

62719-EUP-45. Issuance. Dow AgroSciences, LLC, 9330 Zionsville Road, Indianapolis, IN 46268. This EUP allows the use of 67,000 pounds of the ProFume Gas Fumigant (sulfuryl fluoride) on up to 141 structures/enclosures to evaluate the control of post harvest infestations of insect and rodent pests in walnut and raisin processing facilities, warehouses, storage bins and facilities, fumigation chambers, and permanent and temporary enclosures (tarped commodity fumigation). This EUP allows evaluation of sulfuryl fluoride as an alternative to methyl bromide in the post-harvest fumigation of stored commodities. The program is authorized only in the State of California. The EUP is effective from March 1, 2002 to March 1, 2005. Temporary tolerances were established and published in the Federal Register of February 7, 2002 (67 FR 5735) (FRL-6823-4) for residues of the active ingredient sulfuryl fluoride and its metabolite fluoride in or on walnuts and raisins. (Dennis McNeilly; Rm. 213, Crystal Mall #2; telephone number: (703) 308-6742; e-mail address: mcneilly.dennis@epa.gov).

Persons wishing to review these EUPs are referred to the designated contact person. Inquiries concerning these permits should be directed to the persons cited above. It is suggested that interested persons call before visiting the EPA office, so that the appropriate file may be made available for inspection purposes from 8 a.m. to 4 p.m., Monday through Friday, excluding legal holidays.

Authority: 7 U.S.C. 136.

List of Subjects

Environmental protection, Experimental use permits.

Dated: March 18, 2002.
Peter Caulkins,
Acting Director, Registration Division, Office of Pesticide Programs.

[FR Doc. 02-7226 Filed 3-26-02; 8:45 am]

BILLING CODE 6560-50-S